DEPARTMENT OF LABOR

Employment and Training Administration

[NAFTA-4013]

AII Technologies, Inc.; El Paso, Texas; Notice of Termination of Investigation

Pursuant to Title V of the North American Free Trade Agreement Implementation Act (Pub. L. 103-182) concerning transitional adjustment assistance, hereinafter called NAFTA-TAA and in accordance with section 250(a), subchapter D, chapter 2, title II, of the Trade Act of 1974, as amended (19 U.S.C. 2331), an investigation was initiated on July 7, 2000, in response to a petition filed on June 30, 2000 on behalf of workers at AII Technologies, Inc., El Paso, Texas.

The petition was not filed by a duly authorized representative and is thus invalid. Consequently, further investigation in this case would serve no purpose, and the investigation has been terminated.

Signed at Washington, DC, this 7th day of August, 2000.
Grant D. Beale,
Program Manager, Division of Trade Adjustment Assistance.

[FR Doc. 00-20675 Filed 8-14-00; 8:45 am]

BILLING CODE 4510-30-M